DEPARTMENT OF STATE

[Public Notice: 7183; OMB Control Number 1405-0101]

30-Day Notice of Proposed Information Collection: DS-156E Nonimmigrant Treaty Trader/Investor Application

ACTION: Notice of request for public comment and submission to OMB of proposed collection of information.

SUMMARY: The Department of State has submitted the following information collection request to the Office of Management and Budget (OMB) for approval in accordance with the Paperwork Reduction Act of 1995.

• Title of Information Collection: Nonimmigrant Treaty Trader/Investor Application.

• OMB Control Number: 1405-0101.

• Type of Request: Extension of a Currently Approved Collection.

• Originating Office: Bureau of Consular Affairs, Department of State (CA/VO).

• Form Number: DS-156E.

• Respondents: Nonimmigrant treaty trader/investor visa applicants.

• Estimated Number of Respondents: 17,000.

• Estimated Number of Responses: 17,000.

• Average Hours per Response: 4 hours.

• Total Estimated Burden: 68,000 hours per year.

• Frequency: Once per respondent.

• Obligation to Respond: Required to Obtain or Retain a Benefit.

DATES: Submit comments to the Office of Management and Budget (OMB) for up to 30 days from September 23, 2010.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents from Stefanie Claus of the Office of Visa Services, U.S. Department of State, 2401 E Street, NW., L-603, Washington, DC 20522, who may be reached at (202) 663-2910.

SUPPLEMENTARY INFORMATION:

We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of proposed collection: Form DS-156E is completed by aliens seeking nonimmigrant treaty trader/investor visas to the U.S. The Department will use the DS-156E to elicit information necessary to determine an applicant's visa eligibility.

Methodology: The DS-156E is submitted to consular posts abroad.

Dated: September 13, 2010.
David E. Donahue,
Deputy Assistant Secretary, Bureau of Consular Affairs, Department of State.

[FR Doc. 2010-23811 Filed 9-22-10; 8:45 am]

BILLING CODE 4710-06-P